DEPARTMENT OF HEALTH AND HUMAN SERVICES

Centers for Disease Control and Prevention

Disease, Disability, and Injury Prevention and Control Special Emphasis Panel (SEP)-SIP23-001, Effective Community Conversations for Influenza and COVID-19 Vaccine Uptake; Amended Notice of Closed Meeting

Notice is hereby given of a change in the meeting of the Disease, Disability, and Injury Prevention and Control Special Emphasis Panel (SEP)-SIP23-001, Effective Community Conversations for Influenza and COVID-19 Vaccine Uptake; May 2, 2023, 11:00 a.m.-3:00 p.m., EDT, teleconference, in the original Federal Register Notice. The meeting was published in the Federal Register on February 13, 2023, Volume 88, Number 29, page 9289.

The meeting is being amended to change the meeting time and should read as follows:

Date: May 2, 2023

Time: 10 a.m.-6 p.m., EDT

The meeting is closed to the public.

FOR FURTHER INFORMATION CONTACT: Catherine Barrett, Ph.D., Scientific Review Officer, National Center for Chronic Disease Prevention and Health Promotion, CDC, 4770 Buford Highway, Mailstop S107-3, Atlanta, Georgia 30341-3717; Telephone: (770) 718-7664; Email: CBarrett@cdc.gov.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2023-04918 Filed 3-9-23; 8:45 am]

BILLING CODE 4163-18-P